FEDERAL ELECTION COMMISSION

Sunshine Act Meetings

FEDERAL REGISTER CITATION NOTICE OF PREVIOUS ANNOUNCEMENT: 88 FR 62358.

PREVIOUSLY ANNOUNCED TIME AND DATE OF THE MEETING: Thursday, September 14, 2023 at 10:30 a.m.

CHANGE IN THE MEETING: The September 14, 2023 Open Meeting has been canceled.

CONTACT PERSON FOR MORE INFORMATION: Judith Ingram, Press Officer, Telephone: (202) 694-1220.

(Authority: Government in the Sunshine Act, 5 U.S.C. 552b)

Vicktoria J. Allen,
Deputy Secretary of the Commission.

[FR Doc. 2023-20230 Filed 9-14-23; 4:15 pm]

BILLING CODE 6715-01-P